INTER-AMERICAN FOUNDATION

Sunshine Act Meetings

TIME AND DATE: Friday, February 28, 2025 4:26-4:45 p.m.

PLACE: Inter-American Foundation Office, 1331 Pennsylvania Avenue NW, Suite 300 South, Washington, DC 20004.

STATUS: Meeting of the Board of Directors, closed to the public.

MATTERS TO BE CONSIDERED:

• Board vote on waiver of public notice requirement

• Board vote on closing meeting

• Personnel Issue

• Appointment of President and Chief Executive Officer

• Adjournment

CONTACT PERSON FOR MORE INFORMATION: Peter Marocco, Acting Chairman, (202) 549-6317, pmarocco@iaf.gov.

The Inter-American Foundation held an emergency closed session of the board of directors on February 28, 2025 to discuss personnel issues. The record of votes as well as other documents required by the Sunshine Act and IAF's regulations can be found at https://drive.google.com/file/d/1gL9V0ojKyQhlBjDA7aTLV1A3KKHFdyiU/view?usp=sharing and https://drive.google.com/file/d/1opNCP4BHPx1oqFl1i8jbnMV4HinyYVvt/view?usp=sharing.

Nichole Skoyles,
General Counsel.

[FR Doc. 2025-03731 Filed 3-5-25; 11:15 am]

BILLING CODE P